DEPARTMENT OF THE INTERIOR

Bureau of Land Management

[BLM_NV_FRN_MO4500177430]

Notice of Realty Action: Change of Authorized Use for Recreation and Public Purposes Lease/Conveyance in Clark County, Nevada

AGENCY: Bureau of Land Management, Interior.

ACTION: Notice of realty action.

SUMMARY: The Bureau of Land Management (BLM), Las Vegas Field Office, proposes a change of authorized use of 7.20 acres of public land in Clark County, Nevada, from use as a portion of the Hollywood Regional Park and an undeveloped Clark County Family Services building, to use for a Las Vegas Metropolitan Police substation. The land is currently classified under the Recreation and Public Purposes Act, as amended (R&PP).

DATES: Interested parties may submit written comments regarding the proposed change of authorized use until June 13, 2024.

ADDRESSES: Mail written comments to the Bureau of Land Management (BLM) Las Vegas Field Office, Assistant Field Manager, Division of Lands, 4701 North Torrey Pines Drive, Las Vegas, NV 89130, or fax to (702) 515-5010.

FOR FURTHER INFORMATION CONTACT: Joseph Varner, Supervisory Realty Specialist, Las Vegas Field Office, at the above address, by telephone at (702) 515-5488, or by email at jvarner@blm.gov. Individuals in the United States who are deaf, deafblind, hard of hearing, or have a speech disability may dial 711 (TTY, TDD, or TeleBraille) to access telecommunications relay services. Individuals outside the United States should use the relay services offered within their country to make international calls to the point-of-contact in the United States. You will receive a reply during normal business hours.

SUPPLEMENTARY INFORMATION: The parcel is located at the northeast corner of Hollywood Boulevard and Sahara Avenue in Clark County, Nevada, and is legally described as:

Mount Diablo Meridian, Nevada

T. 21 S., R. 62 E.,

sec. 2, lots 28, 30, 33, and 41 thru 46.

The area described contains 7.20 acres, according to the official plat of the survey of said land, on file with the BLM.

In accordance with the R&PP Act (43 U.S.C. 869 et seq.), Clark County Real Property Management has filed an application to develop a Las Vegas Metropolitan Police substation that would directly support a proposed adjacent public park, fire station, high school, housing communities, and businesses. The new substation is needed to house police equipment and personnel necessary to perform all job duties and maintain all aspects of the substation, which will support the surrounding areas of northeast Las Vegas. Clark County has requested that the BLM change the authorized use of 7.20 acres of public land in Clark County, Nevada, from use as a portion of the Hollywood Regional Park and the undeveloped Clark County Family Services building to use for a Las Vegas Metropolitan Police substation. The above-described land was previously classified by a notice published in the Federal Register (62 FR 59789) on November 3, 1999, for Recreation and Public Purposes, and the current use for a fire station, regional park, and a Clark County Family Services building was established by a notice (70 FR 4144) published on January 28, 2005.

The proposed facility consists of administrative offices; cubicles; conference rooms; briefing rooms; interview rooms; locker rooms with showers and restroom stalls; janitorial closets with common household cleaning supplies; break rooms; a kitchen with refrigerator, microwave, gas stove, vending machines, water fountains, sinks, flat screen televisions, tables, and chairs; an armory room containing handguns, rifles, shotguns, tazers, body cameras, radios, and multiple types of ammunition stored in a fire proof safe; an I.D.F. room that contains communication servers/data; and an evidence room.

The exterior of the main facility would be landscaped with standard desert landscaping materials. Plans include an unsecured paved parking lot, a secured employee parking lot, a storage shed, and a backup diesel fuel generator. The generator would be maintained regularly and checked for any leaks or spills. If there is such a leak or spill, it will be contained within a concrete secondary containment enclosure and cleaned per appropriate standards.

There will be an additional 360 square foot locked storage shed in the secured employee parking lot housing handheld fuel tanks, damaged vehicle parts, air compressor, road flares, car jacks, traffic cones, battery jumper, hand tools, water jugs, additional location lighting, and power cords. There will be trash enclosures picked up by Republic Services on a schedule, 24-hour video monitoring, lighting, and typical local utilities for direct support of the proposed substation.

Additional detailed information pertaining to the BLM's proposed change of authorized use or the county's plan of development and site plan is available in case file N-97410, which will be available for review at the BLM Las Vegas Field Office at the above address. Clark County Real Property Management is a political subdivision of the State of Nevada and is, therefore, a qualified applicant under the R&PP Act.

Subject to limitations prescribed by law and regulation, prior to patent issuance, the holder of any right-of-way grant from the BLM within the lease area would be given the opportunity to amend the right-of-way grant for conversion to a new term, including perpetuity, if applicable.

The land identified is not needed for any Federal purpose. The proposed change of authorized use for lease and/or conveyance is consistent with the BLM Las Vegas Resource Management Plan dated October 5, 1998, and would be in the public interest. Clark County Real Property Management has not applied for more than the 640-acre annual limitation for public purpose uses and has submitted a statement that their application is for a definite project as required by regulations at 43 CFR 2741.4(b).

The change of authorized use for lease and/or conveyance, when issued, will be subject to the provisions of the R&PP Act and applicable regulations of the Secretary of the Interior, and any patent issued will contain the following reservations to the United States:

1. A right-of-way thereon for ditches or canals constructed by the authority of the United States, Act of August 30, 1890 (43 U.S.C. 945); and

2. All minerals shall be reserved to the United States, together with the right to prospect for, mine, and remove such deposits for the same under applicable law and such regulations as the Secretary of the Interior may prescribe; and

3. Any lease and conveyance will also be subject to valid existing rights, will contain any terms or conditions required by law (including, but not limited to, any terms or conditions required by 43 CFR 2741.4), and will contain an appropriate indemnification clause protecting the United States from claims arising out of the lessee's/patentee's use, occupancy, or operations on the leased/patented lands. It will also contain any other terms and conditions deemed necessary and appropriate by the Authorized Officer; and

4. Any other reservations that the authorized officer determines appropriate to ensure public access and proper management of Federal lands and interests therein.

The subject public lands described above were previously withdrawn from location and entry under the U.S. mining laws and from operation of the mineral and geothermal leasing laws by the Southern Nevada Public Land Management Act of 1998 (Pub. L. 105-263), as amended. Upon publication of this notice in the Federal Register, the land described above will be further segregated from all other forms of appropriation under the public land laws, except for lease and conveyance under the R&PP Act.

Interested parties may also submit written comments regarding the specific use proposed in the application and plan of development, and whether the BLM followed proper administrative procedures in reaching the decision to lease and convey under the R&PP Act. Comments on the change of authorized use are restricted to whether the land is physically suited for the proposal, whether the use will maximize the future use or uses of the land, whether the use is consistent with local planning and zoning, or if the use is consistent with state and Federal programs.

Before including your address, phone number, email, address, or other personal identifying information in your comment, you should be aware that your entire comment—including your personal identifying information—may be made publicly available at any time. While you can ask us in your comment to withhold your personal identifying information from public review, we cannot guarantee that we will be able to do so. Only written comments submitted to the Assistant Field Manager, BLM Las Vegas Field Office, will be considered properly filed. Any adverse comments on the change of authorized use will be reviewed as protests by the BLM Nevada State Director, who may sustain, vacate, or modify this realty action. In the absence of any adverse comments, the decision will become effective on June 28, 2024.

Authority: 43 CFR 2741.5.

Bruce Sillitoe,
Field Manager, Las Vegas Field Office.

[FR Doc. 2024-09151 Filed 4-26-24; 8:45 am]

BILLING CODE 4331-21-P